FEDERAL ELECTION COMMISSION

Sunshine Act; Meeting

Date and Time: Tuesday, June 21, 2005 at 10 a.m.

Place: 999 E Street, NW., Washington, DC.

Status: This Meeting Will Be Closed to the Public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, June 23, 2005, at 10 a.m.

Place: 999 E Street, NW., Washington, DC (Ninth Floor).

Status: This Meeting Will Be Open to the Public.

Items to Be Discussed:

Correction and Approval of Minutes.

Advisory Opinion 2005-06: Friends of McInnis Canyons National Conservation Area and former Representative Scott McInnis and Friends of Scott McInnis, Inc. by Treasurer, Orville F. Petersen.

Final Rules and Explanation and Justification for Candidate Solicitation at State, District and Local Party Fundraising Events (11 CFR 300.64).

Final Rules and Explanation and Justification for Definitions of “Agent” for BCRA Regulations on Non-Federal Funds and Coordinated and Independent Expenditures (11 CFR 109.3 and 300.2(b)).

Final Rules and Explanation and Justification for Payroll Deductions by Member Corporations for Contributions to a Trade Association's Separate Segregated Fund.

Routine Administrative Matters.

For Further Information Contact: Mr. Robert Biersack, Press Officer, Telephone: (202) 694-1220.

Mary W. Dove,
Secretary of the Commission.

[FR Doc. 05-12025 Filed 6-14-05; 2:37 am]

BILLING CODE 6715-01-M